DEPARTMENT OF STATE

[Public Notice 6794]

In the Matter of the Review of the Designation of al-Qa'ida in the Islamic Maghreb (a.k.a. AQIM, a.k.a. Tanzim al-Qa'ida fi Bilad al-Maghrib al-Islamiya) as a Foreign Terrorist Organization Pursuant to Section 219 of the Immigration and Nationality Act, as Amended

Based upon a review of the Administrative Records assembled in this matter pursuant to Section 219(a)(4)(C) of the Immigration and Nationality Act, as amended (8 U.S.C. 1189(a)(4)(C)) (“INA”), and in consultation with the Attorney General and the Secretary of the Treasury, I conclude that the circumstances that were the basis for the 2004 re-designation of the aforementioned organization, formerly known as the Salafist Group for Call and Combat, as a foreign terrorist organization have not changed in such a manner as to warrant revocation of the designation and that the national security of the United States does not warrant a revocation of the designation.

Therefore, I hereby determine that the designation of the aforementioned organization as a foreign terrorist organization, pursuant to Section 219 of the INA (8 U.S.C. 1189), shall be maintained.

This determination shall be published in the Federal Register.

Dated: October 16, 2009.
James B Steinberg,
Deputy Secretary of State, Department of State.

[FR Doc. E9-25821 Filed 10-26-09; 8:45 am]

BILLING CODE 4710-10-P